DEPARTMENT OF HOUSING AND URBAN DEVELOPMENT

[Docket No. FR-4564-N-01]

Notice of Proposed Information Collection: Notice of Funding Availability (NOFA) for Research To Improve the Evaluation and Control of Residential Lead-Based Paint Hazards

AGENCY: Office of Lead Hazard Control, HUD.

ACTION: Notice.

SUMMARY: The proposed information collection requirement concerning the Notice of Funding Availability (NOFA) for Research to Improve the Evaluation and Control of Residential Lead-Based Paint Hazards will be submitted to the Office of Management and Budget (OMB) for review, as required by the Paperwork Reduction Act. The Department is soliciting public comments on the subject proposal.

DATES: Comments Due Date: April 10, 2000.

ADDRESSES: Interested persons are invited to submit comments regarding this proposal. Comments should refer to the proposal by name and/or OMB Control Number and should be sent to: Gail N. Ward, Reports Liaison Officer, Department of Housing and Urban Development, 451 7th Street, SW, Room P3206, Washington, DC 20410.

FOR FURTHER INFORMATION CONTACT: Eugene A. Pinzer, (202) 755-1785 ext. 120 (this is not a toll-free number) for available documents regarding this proposal.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Notice of Funding Availability (NOFA) for Research to Improve the Evaluation and Control of Residential Lead-Based Paint Hazards.

OMB Control Number: 2539-0010.

Need for the Information and Proposed Use: This information collection is required in conjunction with the issuance of NOFAs announcing the availability of approximately $1,500,000 for grants for Lead-Based Paint Hazard Research. Grants are authorized under Title X of the Housing and Community Development Act of 1992, Pub. L. 102-550, Section 1011(g) and other legislation.

Results from this research will be used to update the HUD Guidelines for the Evaluation and Control of Lead-Based Paint Hazards in Housing. It is anticipated that this targeted research will also increase both the accuracy of residential lead hazard evaluation and the effectiveness of residential lead hazard reduction interventions, while improving the cost-effectiveness of the entire process. This research should contribute to an eventual reduction in the national prevalence of childhood lead poisoning.

Agency Form Numbers: None.

Members of Affected Public: Potential applicants include academic and not-for profit institutions located in the U.S., State and local governments, and for-profit firms.

Total Burden Estimate (first year):

Task | Number of respondents | Frequency of responses | Hours per response | Burden hours
Application Development | 25 | 1 | 103 | 2,575
Award of Grant | 5 | 1 | 25 | 125
Total Estimated Burden Hours |  |  |  | 2,700

Status of the Proposed Information Collection: This is a renewal of an existing approval.

Authority: The Paperwork Reduction Act of 1995, 44 U.S.C. Chapter 35, is amended.

Dated: February 2, 2000.
David E. Jacobs,
Director, Office of Lead Hazard Control.

FR Doc. 00-3140 Filed 2-9-00; 8:45 am]

BILLING CODE 4210-01-M